DEPARTMENT OF HEALTH AND HUMAN SERVICES

Centers for Medicare & Medicaid Services

42 CFR Parts 416, 482, and 483

[CMS-3277-CN]

RIN 0938-AR72

Medicare and Medicaid Programs; Fire Safety Requirements for Certain Health Care Facilities; Correction

AGENCY: Centers for Medicare & Medicaid Services (CMS), HHS.

ACTION: Final rule; correction.

SUMMARY: This document corrects technical errors that appeared in the final rule published in the Federal Register on May 4, 2016, entitled “Medicare and Medicaid Programs; Fire Safety Requirements for Certain Health Care Facilities.”

DATES: This correction is effective July 5, 2016.

FOR FURTHER INFORMATION CONTACT: Kristin Shifflett, (410) 786-4133.

SUPPLEMENTARY INFORMATION:

I. Background

In FR Doc. 2016-10043 of May 4, 2016 (81 FR 26871), there were technical errors that are identified and corrected in the Correction of Errors section below. The provisions in this correction document are effective as if they had been included in the document published May 4, 2016. Accordingly, the corrections are effective July 5, 2016.

II. Summary of Errors in Regulations Text

On page 26897, at § 416.44(b)(1), we inadvertently omitted a portion of the sentence. We are correcting this sentence to read, “. . . the ASC must meet the provisions applicable to Ambulatory Health Care Occupancies, regardless of the number of patients served[.]”.

On page 26899, at § 482.41(b)(1)(i), we inadvertently omitted a sentence. We are correcting this error by adding a sentence to clarify that outpatient surgical departments must meet the provisions applicable to Ambulatory Health Care Occupancies, regardless of the number of patients served.

On page 26900, at § 483.70(a)(8), we inadvertently specified an incorrect facility type. We are correcting this error to specify the requirements an LTC facility must meet when a sprinkler system is shut down for more than 10 hours.

III. Waiver of Proposed Rulemaking and the 30-Day Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived; however, if an agency finds for good cause that the delay is impracticable, unnecessary, or contrary to the public interest, and the agency incorporates a statement of the findings and its reasons in the rule issued. In this case, we find that a period for comment and a delay in the effective date of publication are both unnecessary, because this correction notice merely corrects technical and typographical errors in the regulations text and makes no changes in CMS policy. For this reason, we believe we have good cause to waive the APA notice and comment period and delayed effective date.

IV. Correction of Errors

In FR Doc. 2016-10043 of May 4, 2016 (81 FR 26871), make the following corrections:

§ 416.44 [Corrected]

1. On page 26897, in the first column, line 1 (§ 416.44(b)(1)), after the word “Occupancies” insert “, regardless of the number of patients served,”.

§ 482.41 [Corrected]

2. On page 26899, in the first column; in § 482.41(b)(1)(i), add a new sentence at the end of the paragraph to read, “Outpatient surgical departments must meet the provisions applicable to Ambulatory Health Care Occupancies, regardless of the number of patients served.”

§ 483.70 [Corrected]

3. On page 26900, in the first column; in § 483.70(a)(8) introductory text, in line 2, the word “ASC” is corrected to read “LTC facility”.

Dated: June 22, 2016.
Madhura Valverde,
Executive Secretary to the Department, Department of Health and Human Services.

[FR Doc. 2016-15460 Filed 6-29-16; 8:45 am]

BILLING CODE 4120-01-P